DEPARTMENT OF THE INTERIOR

Bureau of Land Management

[LLWY-957000-18-L13100000-PP0000]

Notice of Stay of Filing of Plat of Survey, Wyoming

AGENCY: Bureau of Land Management, Interior.

ACTION: Notice of stay of filing of plat of survey, Wyoming.

SUMMARY: The Bureau of Land Management (BLM) has placed a stay on the filing of a plat of survey of the following described land, pending consideration of the protest and/or appeal that was filed within 30 calendar days of publication in this Federal Register. A plat will not be officially filed until after disposition of protest and/or appeal.

FOR FURTHER INFORMATION CONTACT: Sonja Sparks, BLM Wyoming Chief Cadastral Surveyor at 307-775-6225 or s75spark@blm.gov. Persons who use a telecommunications device for the deaf may call the Federal Relay Service at 1-800-877-8339 to contact this office during normal business hours. The Service is available 24 hours a day, 7 days a week, to leave a message or question with this office. You will receive a reply during normal business hours.

SUPPLEMENTARY INFORMATION: The lands surveyed are: The plat and field notes representing the dependent resurvey of a portion of the east and west boundaries, and portions of the subdivisional lines, designed to restore the corners in their true original locations according to the best available evidence, Township 33 North, Range 70 West, Sixth Principal Meridian, Wyoming, Group No. 979, was accepted November 8, 2018. This survey was executed to determine boundaries of Federal Interest Minerals.

Copies of the preceding described plats and field notes are available to the public at a cost of $4.20 per plat and $.13 per page of field notes.

Dated: January 29, 2019.
Sonja S. Sparks,
Chief Cadastral Surveyor, Division of Support Services.

[FR Doc. 2019-00868 Filed 2-1-19; 8:45 am]

BILLING CODE 4310-22-P